SUSQUEHANNA RIVER BASIN COMMISSION

Public Hearing

AGENCY: Susquehanna River Basin Commission.

ACTION: Notice.

SUMMARY: The Susquehanna River Basin Commission will hold a public hearing on November 3, 2022. The Commission will hold this hearing in-person and telephonically. At this public hearing, the Commission will hear testimony on the projects listed in the Supplementary Information section of this notice. The public hearing will also hear testimony regarding the proposed fee schedule for 2023. Such projects and proposals are intended to be scheduled for Commission action at its next business meeting, tentatively scheduled for December 15, 2022, which will be noticed separately. The public should take note that this public hearing will be the only opportunity to offer oral comment to the Commission for the listed projects and proposals. The deadline for the submission of written comments is November 14, 2022.

DATES: The public hearing will convene on November 3, 2022, at 2:30 p.m. The public hearing will end at 5:00 p.m. or at the conclusion of public testimony, whichever is earlier. The deadline for the submission of written comments is Monday, November 14, 2022.

ADDRESSES: This public hearing will be conducted in-person and virtually. You may attend in person at Susquehanna River Basin Commission, 4423 N Front St., Harrisburg, Pennsylvania or join by Web Ex: https://srbc.webex.com/srbc/j.php?MTID=m0f25e40186c3d78bf502bf6d9528e7a6.

Meeting number: 177 763 0980; Password: PubHearing110322. Participants may also participate by phone: 1-877-668-4493 Call-in toll-free number (US/Canada); Access code: 177 763 0980.

FOR FURTHER INFORMATION CONTACT: Jason Oyler, General Counsel and Secretary to the Commission, telephone: (717) 238-0423 or joyler@srbc.net.

Information concerning the applications for the projects is available at the Commission's Water Application and Approval Viewer at https://www.srbc.net/waav. The proposed fee schedule can be found on the Commission's website: https://www.srbc.net/about/meetings-events/public-hearing.html. Additional supporting documents are available to inspect and copy in accordance with the Commission's Access to Records Policy at www.srbc.net/regulatory/policies-guidance/docs/access-to-records-policy-2009-02.pdf.

SUPPLEMENTARY INFORMATION: The public hearing will cover the following projects:

Projects Scheduled for Action

1. Project Sponsor and Facility: Blossburg Municipal Authority, Bloss Township, Tioga County, Pa. Applications for groundwater withdrawals (30-day averages) of up to 0.144 mgd from Taylor Run Well 1 and 0.144 mgd from Taylor Run Well 2.

2. Project Sponsor and Facility: BlueTriton Brands, Inc. (Valley View Springs), Hegins Township, Schuylkill County, Pa. Applications for renewal of surface water withdrawal of up to 0.200 mgd (peak day) and consumptive use of up to 0.200 mgd (peak day) (Docket No. 19971101).

3. Project Sponsor: Constellation Energy Generation, LLC. Project Facility: Three Mile Island Generating Station, Londonderry Township, Dauphin County, Pa. Applications for renewal of groundwater withdrawals (30-day averages) of up to 0.099 mgd from Well A, 0.099 mgd from Well B, and 0.099 mgd from Well C (Docket No. 20110610), and Commission-initiated modification of surface water and consumptive use approvals based on changes in operating status of the project and revised demand projections.

4. Project Sponsor: Corning Incorporated. Project Facility: Corporate Headquarters, City of Corning, Steuben County, NY. Application for renewal of groundwater withdrawal of up to 1.440 mgd (30-day average) from Well 6A (Docket No. 19981201).

5. Project Sponsor and Facility: Dover Township, York County, Pa. Applications for groundwater withdrawals (30-day averages) of up to 0.360 mgd from Well 8 and up to 0.088 mgd from Well 10 (Docket No. 19911104).

6. Project Sponsor and Facility: Hughesville Borough Authority, Wolf Township, Lycoming County, Pa. Applications for renewal of groundwater withdrawals (30-day averages) of up to 0.260 mgd from Well 1, 0.260 mgd from Well 2, and 1.440 mgd from Well 3 (Docket No. 20070604).

7. Project Sponsor: Municipal Authority of the Township of East Hempfield. Project Facility: Hempfield Water Authority, East Hempfield Township, Lancaster County, Pa. Applications for renewal of groundwater withdrawals (30-day averages) of up to 0.353 mgd from Well 6, 0.145 mgd from Well 7, 1.447 mgd from Well 8, and 1.800 mgd from Well 11, and Commission-initiated modification to Docket No. 20120906, which approves withdrawals from Wells 1, 2, 3, 4, and 5 and Spring S-1 (Docket Nos. 19870306, 19890503, 19930101, and 20120906).

8. Project Sponsor and Facility: Repsol Oil & Gas USA, LLC (Choconut Creek), Choconut Township, Susquehanna County, Pa. Application for renewal of surface water withdrawal of up to 0.999 mgd (peak day) (Docket No. 20171206).

9. Project Sponsor: State College Friends Limited Partnership. Project Facility: Toftrees Golf Resort (Pond 9), Patton Township, Centre County, Pa. Applications for surface water withdrawal of up to 0.750 mgd (peak day), and renewal with modification to increase consumptive use (peak day) by an additional 0.480 mgd, for a total consumptive use of up to 0.750 mgd (Docket No. 20021010).

10. Project Sponsor and Facility: SWN Production Company, LLC (Lycoming Creek), Lewis Township, Lycoming County, Pa. Application for renewal of surface water withdrawal of up to 0.500 mgd (peak day) (Docket No. 20171208).

11. Project Sponsor and Facility: SWN Production Company, LLC (Lycoming Creek), McIntyre Township, Lycoming County, Pa. Application for renewal of surface water withdrawal of up to 0.500 mgd (peak day) (Docket No. 20171209).

12. Project Sponsor: The United States Department of Veterans Affairs. Project Facility: Indiantown Gap National Cemetery, East Hanover and Union Townships, Lebanon County, Pa. Application for consumptive use of up to 0.099 mgd (30-day average).

13. Project Sponsor: Veolia Water Pennsylvania, Inc. Project Facility: Grantham Operation, Upper Allen Township, Cumberland County, Pa. Application for renewal of groundwater withdrawal of up to 0.395 mgd (30-day average) from Well 2 (Docket No. 19901104).

Project Scheduled for Action Involving a Diversion

14. Project Sponsor and Facility: BlueTriton Brands, Inc. (Valley View Springs), Hegins Township, Schuylkill County, Pa. Application for approval of an out-of-basin diversion of up to 0.200 mgd (peak day).

Opportunity To Appear and Comment

Interested parties may call into the hearing to offer comments to the Commission on any business listed above, including the fee schedule, required to be the subject of a public hearing. Given the nature of the meeting, the Commission strongly encourages those members of the public wishing to provide oral comments to pre-register with the Commission by emailing Jason Oyler at joyler@srbc.net prior to the hearing date. The presiding officer reserves the right to limit oral statements in the interest of time and to otherwise control the course of the hearing. Access to the hearing via telephone will begin at 2:15 p.m. Guidelines for the public hearing are posted on the Commission's website, www.srbc.net, prior to the hearing for review. The presiding officer reserves the right to modify or supplement such guidelines at the hearing. Written comments on any business listed above required to be the subject of a public hearing may also be mailed to Mr. Jason Oyler, Secretary to the Commission, Susquehanna River Basin Commission, 4423 North Front Street, Harrisburg, Pa. 17110-1788, or submitted electronically through https://www.srbc.net/regulatory/public-comment/. Comments mailed or electronically submitted must be received by the Commission on or before November 14, 2021, to be considered.

Authority: Pub. L. 91-575, 84 Stat. 1509 et seq., 18 CFR parts 806, 807, and 808.

Dated: October 7, 2022.
Jason E. Oyler,
General Counsel and Secretary to the Commission.

[FR Doc. 2022-22245 Filed 10-12-22; 8:45 am]

BILLING CODE 7040-01-P